INTERNATIONAL TRADE COMMISSION

[Investigation Nos. 701-TA-575 and 731-TA-1360-1361 (Review)]

Tool Chests and Cabinets From China and Vietnam; Determinations; Correction

AGENCY: U.S. International Trade Commission.

ACTION: Notice; correction.

SUMMARY: Correction is made to the publication number.

SUPPLEMENTARY INFORMATION:

Correction

In the Federal Register of July 7, 2023 (88 FR 43399) in FR Doc. 2023-14302, under Background, the publication number should be USITC Publication 5439 (June 2023).

Issued: July 7, 2023.
Lisa Barton,
Secretary to the Commission.

[FR Doc. 2023-14781 Filed 7-11-23; 8:45 am]

BILLING CODE 7020-02-P